DEPARTMENT OF ENERGY

Federal Energy Regulatory Commission

[Project No. 13123-002]

Eagle Crest Energy Company; Notice of Application Ready for Environmental Analysis and Soliciting Comments, Recommendations, Terms and Conditions, and Prescriptions

January 11, 2010.

Take notice that the following hydroelectric application has been filed with the Commission and is available for public inspection.

a. Type of Application: Major License.

b. Project No.: 13123-002.

c. Date filed: June 23, 2009.

d. Applicant: Eagle Crest Energy Company.

e. Name of Project: Eagle Mountain Pumped Storage Project.

f. Location: The Project would be located in two depleted mining pits in the Eagle Mountain Mine in Riverside County, California, near the Town of Desert Center, California, and would occupy federal lands administered by the U.S. Bureau of Land Management and private lands owned by Kaiser Eagle Mountain, LLC.

g. Filed Pursuant to: Federal Power Act 16 U.S.C. 791(a)-825(r).

h. Applicant Contact: Stephen Lowe, One El Paseo West Building, 74-199 El Paseo Drive, Suite 204, Palm Desert, CA 92260, (760) 346-4900.

i. FERC Contact: Kim A. Nguyen, 888 First Street, NE., Room 61-01, Washington, DC 20426, (202) 502-6105, kim.nguyen@ferc.gov.

j. Deadline for filing comments, recommendations, terms and conditions, and prescriptions is 60 days from the issuance of this notice; reply comments are due 105 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The project would consist of: (1) A 191-acre upper reservoir impounded by two diversion dams with a total storage capacity of 20,000 acre-feet; (2) a 163-acre lower reservoir with a total storage capacity of 21,900 acre-feet; (3) an upper reservoir spillway channel about 4,000 feet long; (4) a 14,000-foot-long section of Eagle Creek; (5) an upper reservoir intake structure; (6) 29-foot-diameter by 4,000-foot-long low pressure upper tunnel; (7) a surge tank with a 33-foot-diameter by 1,348-foot-long tunnel shaft; (8) a 29-foot-diameter by 1,560-foot-long high pressure lower tunnel; (9) a 33-foot-diameter by 6,835-foot-long tailrace tunnel; (10) a 72-foot-wide, 130-foot-high, and 360-foot-long underground powerhouse; (11) four reversible pump-turbine units at 325 megawatts each, for a total installed capacity of 1,300 megawatts; (12) a 28-foot-wide, 28-foot-high, by 6,625-foot-long access tunnel to the underground powerhouse; (13) a lower reservoir inlet structure; (14) a site near the switchyard for the reverse osmosis system; (15) a desalination area; (16) a buried water supply pipeline ranging from 12- to 24-inch-diameter totaling 15.3 miles; (17) a 13.5-mile-long, 500-kilovolt transmission line connecting to a new Interconnection Collector Substation; (18) many miles of permanent construction and access roads; (19) staging, storage, and administration areas near the switchyard; and (20) appurtenant facilities. The average annual generation is estimated to be 22.2 gigawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

Kimberly D. Bose,
Secretary.

[FR Doc. 2010-913 Filed 1-19-10; 8:45 am]

BILLING CODE 6717-01-P